DEPARTMENT OF THE TREASURY

Submission for OMB Review; Comment Request

February 17, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 27, 2000 to be assured of consideration.

Internal Revenue Service (IRS)

OMB Number: 1545-1120.

Regulation Project Number: CO-69-87, CO-68-87, and CO-18-90 Final.

Type of Review: Extension.

Title: Final Regulations Under Sections 382 and 383 of the Internal Revenue Code of 1986 (CO-69-87 and CO-68-87 Final); and Final Regulations Under Section 382 of the Internal Revenue Code of 1986; Limitations on Corporate Net Operating Loss Carryforwards (CO-18-90 Final).

Description: CO-69-87 and CO-68-87: These regulations require reporting by a corporation after it undergoes an “ownership change” under sections 382 and 383. Corporations required to report under these regulations include those with capital loss carryovers and excess credits. CO-18-90: These regulations provide rules for the treatment of options under Internal Revenue Code (IRC) section 382 for purposes of determining whether a corporation undergoes an ownership change. The regulation allows for certain elections for corporations whose stock is subject to options.

Respondents: Business or other for-profit.

Estimated Number of Respondents/Recordkeepers: 75,150.

Estimated Burden Hours Per Respondent/Recordkeeper: 2 hours, 56 minutes.

Frequency of Response: Annually.

Estimated Total Reporting Burden: 220,575 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports Management Officer.

[FR Doc. 00-4414 Filed 2-24-00; 8:45 am]

BILLING CODE 4810-31-P